ENVIRONMENTAL PROTECTION AGENCY

[FRL-7251-3]

Agency Information Collection Activities: Proposed Collection; Comment Request; National Waste Minimization Partnership Program; Correction

AGENCY: Environmental Protection Agency (EPA).

ACTION: Notice; correction.

SUMMARY: The EPA published a document in the Federal Register of June 21, 2002, concerning a proposed information collection request for the National Waste Minimization Partnership Program.

FOR FURTHER INFORMATION CONTACT: Newman Smith, 703-308-8757.

SUPPLEMENTARY INFORMATION: The EPA published a document in the Federal Register of June 21, 2002, (67 FR 42251), in FR Doc. 02-15725. This document corrects the docket number in the ADDRESSES section in the second and third column of page 42251 to read “RCRA-2002-0022”; and also corrects the docket address in the second column to read: RCRA Docket Information Center, Office of Solid Waste (5305G) U.S. Environmental Protection Agency, 1200 Pennsylvania Avenue, NW, Washington, DC 20460.

Dated: July 19, 2002.
Elizabeth Cotsworth,
Director, Office of Solid Waste.

[FR Doc. 02-19106 Filed 7-26-02; 8:45 am]

BILLING CODE 6560-50-P